DEPARTMENT OF STATE

[Public Notice: 6446]

Certification Concerning the Bolivian Military and Police Under the Department of State, Foreign Operations, and Related Programs Appropriations Act, 2008 (Division J, Pub. L. 110-161)

Pursuant to the authority vested in the Secretary of State, including under the heading “Andean Counterdrug Program” of the Department of State, Foreign Operations, and Related Programs Appropriations Act, 2008 (Division J, Pub. L. 110-161) and State Department Delegation of Authority 245, I hereby certify that the Bolivian military and police are respecting human rights and cooperating fully with investigations and prosecutions by civilian judicial authorities of military and police personnel who have been implicated in gross violations of human rights.

This Determination shall be transmitted to the Congress and published in the Federal Register.

Dated: November 26, 2008.
John D. Negroponte,
Deputy Secretary of State, Department of State.

[FR Doc. E8-28976 Filed 12-5-08; 8:45 am]

BILLING CODE 4710-29-P